DEPARTMENT OF TRANSPORTATION

Federal Aviation Administration

14 CFR Part 91

[Docket No.: FAA-2018-0838; Amdt. No. 91-352]

RIN 2120-AL34

Amendment of the Prohibition Against Certain Flights in the Pyongyang Flight Information Region (FIR) (ZKKP)

Correction

In rule document 2018-20173 appearing on pages 47059-47065 in the issue of September 18, 2018, make the following correction:

On page 47061, in the second column, in the third line, “September 18, 2010” should read “September 18, 2020”.

[FR Doc. C1-2018-20173 Filed 9-24-18; 8:45 am]

BILLING CODE 1301-00-D